NATIONAL CREDIT UNION ADMINISTRATION

Sunshine Act Meeting; Notice of Matter To Be Deleted From the Agenda of a Previously Announced Agency Meeting

Federal Register Citation of Previous Announcement: July 19, 2011 (76 FR 42736).

TIME AND DATE: 10 a.m., Thursday, July 21, 2011.

PLACE: Board Room, 7th Floor, Room 7047, 1775 Duke Street, Alexandria, VA 22314-3428.

STATUS: Open.

Matter To Be Deleted

1. Final Rule—Parts 700, 701, 702, and 741 of NCUA's Rules and Regulations, Net Worth and Equity Ratio Definitions.

FOR FURTHER INFORMATION CONTACT: Mary Rupp, Secretary of the Board, Telephone: 703-518-6304.

Mary Rupp,
Board Secretary.

[FR Doc. 2011-18687 Filed 7-20-11; 4:15 pm]

BILLING CODE 7535-01-P